DEPARTMENT OF COMMERCE

National Oceanic and Atmospheric Administration

[I.D. 051106A]

Endangered and Threatened Species: Extension of Public Comment Period on Draft Steller Sea Lion Recovery Plan

AGENCY: National Marine Fisheries Service (NMFS), National Oceanic and Atmospheric Administration (NOAA), Commerce.

ACTION: Notice of Availability; extension of public comment period.

SUMMARY: In May 2006, the National Marine Fisheries Service (NMFS) announced the availability for public review of the draft revised recovery plan (plan) for the western and eastern distinct population segments (DPS) of Steller sea lion (Eumetopias jubatus). NMFS is extending the public comment period on the recovery plan until September 1, 2006.

DATES: Comments on the draft recovery plan must be received by close of business on September 1, 2006.

ADDRESSES: Send comments to Kaja Brix, Assistant Regional Administrator, Protected Resources Division, Alaska Region, NMFS, Attn: Ellen Walsh, P.O. Box 21668, Juneau, AK 99802. Comments may also be submitted by (1) E-mail to SSLRP@noaa.gov. Include in the subject line the following document identifier: Sea Lion Recovery Plan. E-mail comments, with or without attachments, are limited to 5 megabytes; (2) hand delivery to the Federal Building: 709 W. 9th Street, Juneau, AK; or (3) Facsimile (fax) to 907-586-7012. Interested persons may obtain the plan for review from the above address or on-line from the NMFS Alaska Region website: http://www.fakr.noaa.gov/.

FOR FURTHER INFORMATION CONTACT: Shane Capron at 907-271-6620, e-mail shane.capron@noaa.gov; or Kaja Brix at 907-586-7235, e-mail kaja.brix@noaa.gov.

SUPPLEMENTARY INFORMATION:

Background

On May 24, 2006, NMFS published a notice of availability (NOA) of the plan for the western and eastern DPSs of Steller sea lions (71 FR 29919). The plan contains (1) A comprehensive review of Steller sea lion status and ecology, (2) a review of previous conservation actions, (3) a threats assessment, (4) biological and recovery criteria for downlisting and delisting, (5) actions necessary for the recovery of the species, and (6) estimates of time and cost to recovery. With the publication of the NOA, NMFS announced a 60-day public comment period ending on July 24, 2006.

NMFS has received a request by the North Pacific Fishery Management Council (Council) to extend the public comment period so that its Science and Statistical Committee (SSC) can fully review and provide comments on the plan. Due to the size and scope of the plan, the SSC will not be able to provide its comments to the Council until late August. The Council will then be able to finalize the comments and provide them to NMFS by September 1. Comments from the SSC and Council will be valuable to the recovery planning process especially with regard to the threats assessment and the development of recovery criteria. In this notice NMFS is extending the public comment period until September 1, 2006, in order to allow adequate time for the SSC and others to thoroughly review and thoughtfully comment on the plan.

Authority: 16 U.S.C. 1531 et seq.

Dated: July 14, 2006.
Marta Nammack,
Acting Division Chief, Office of Protected Resources, National Marine Fisheries Service.

[FR Doc. E6-11554 Filed 7-19-06; 8:45 am]

BILLING CODE 3510-22-S